ENVIRONMENTAL PROTECTION AGENCY

[FRL-7583-8]

Regulatory Innovation Pilot Projects (Project XL)

AGENCY: Environmental Protection Agency (EPA).

ACTION: Notice of availability of the final project agreement modifications to Buncombe County Leachate Recirculation/Gas Recovery (Bioreactor) Project XL pilot.

SUMMARY: EPA is requesting comments on modifications to the Project XL Final Project Agreement (FPA) for Buncombe County. The FPA is a voluntary agreement that was developed collaboratively by Buncombe County, the North Carolina Department of Environment and Natural Resources (NCDENR), and EPA. The original FPA was agreed upon and signed by each participant on September 18, 2001. Since that time, Buncombe County has utilized the expertise of a couple of widely-recognized experts in the bioreactor field—Dr. Morton Barlaz (North Carolina State University), and Dr. Debra Reinhart (University of Central Florida). These technical experts have made a few professional recommendations to Buncombe County regarding the Buncombe County bioreactor landfill project. These recommendations have been documented in a Preliminary Design Report (PDR) submitted to EPA and the State in September 2002. The Preliminary Design Report contains a table that lays out seven specific proposed FPA modifications. For each of the proposed modifications, the table identifies: the FPA agreed-upon original criteria, proposed modification to FPA language, and reason for the modification. The recommendations are based upon the best professional judgement of the technical experts being utilized by Buncombe County. The FPA modifications will help to further clarify the existing FPA. The FPA modifications also identify what parameters the recognized experts perceive to be necessary (e.g., where the original FPA language may have been silent), or unnecessary and not very useful. The proposed FPA modifications contain suggestions for specific parameters that are directly applicable to the decomposition of wastes, thereby steering the State of North Carolina, EPA, and Buncombe County towards more useful and consistent measuring of critical data. EPA has determined that these FPA modifications would not warrant a change to the rule; however, EPA is providing notice to the public and stakeholders regarding these modifications to the FPA for Buncombe County.

The Project XL program, announced in the Federal Register on May 23, 1995 (60 FR 27282), gives regulated entities the flexibility to develop alternative strategies that will replace or modify specific regulatory or procedural requirements on the condition that they produce greater environmental benefits. In 1995, EPA had set a goal of implementing fifty XL projects undertaken in full partnership with the States. The Agency had achieved the goal of implementing 50 innovative pilot projects, and as of January, 2003 EPA is no longer accepting proposals for new Project XL pilot projects. The implementation of several of these innovative pilots is on-going. Buncombe County is one of the many innovative pilots that is currently in the implementation phase.

In the Final Project Agreement, Buncombe County proposes to use certain bioreactor techniques (e.g., leachate recirculation) at its municipal solid waste landfill (MSWLF), to accelerate the biodegradation of landfill waste and decrease the time it takes for the waste to stabilize in the landfill. The principal objectives of this bioreactor XL project are to evaluate performance of an alternative landfill liner and to assess waste decomposition when recirculated leachate is added to the landfill. To achieve the objectives of the project, Buncombe County proposes to recirculate leachate in MSWLF cells to be constructed with a liner that differs in certain respects from the liner design specified in the Subtitle D regulations. In order to carry out this project, Buncombe County sought relief from current Resource Conservation and Recovery Act (RCRA) Subtitle D regulations (40 CFR part 258), which set forth design and operating criteria. Buncombe County desires to construct the remainder of its landfill cells with an approved alternative liner while implementing this leachate recirculation/gas recovery project. Buncombe County also sought regulatory flexibility from the prohibition in 40 CFR 258.28, Liquid Restrictions, which precludes the addition of useful bulk or non-containerized liquid amendments. During periods of low leachate generation, Buncombe County wanted to be able to supplement the leachate flow with water from the adjoining French Broad River to maintain moisture levels in the landfill. Some of the superior environmental benefits that Buncombe County expects to achieve with this project include: Improved leachate quality; reduction in the potential for uncontrolled releases of leachate to contaminate the groundwater, or gas to contaminate the air during the post-closure phase (should a containment system failure occur); increased gas yield and capture; rapid waste biodegradation and stabilization; increased lifespan of the landfill resulting in less need for construction of additional landfills; reduced post-closure costs; and faster reclamation of land for future use. The Buncombe County proposal is one of several bioreactor XL project proposals that are currently being implemented through the Project XL program. This project to allow recirculation of leachate using an alternative landfill liner design will apply only to the Buncombe County Landfill in Asheville, North Carolina and the specific landfill cells at that landfill. Modifications to the terms and conditions pertaining to this XL pilot project are contained in the Final Project Agreement (FPA), on which EPA is requesting comment today. The FPA sets forth the intentions of EPA, Buncombe County, and the State of North Carolina with regard to the implementation of the project and the expected benefits. After review of the comments received during the public comment period and revision of the FPA, as appropriate, the FPA modification will be signed by representatives from the EPA, the State of North Carolina, and Buncombe County.

The legal implementing mechanism for this project is a site-specific rule. The proposed rule was made available for public comment on April 16, 2001 (66 FR 19403). The final rule was promulgated on August 22, 2001 (66 FR 44061). Through the final rule, the design of the bioreactor landfill is enforceable in the same way that current RCRA standards for landfills are enforceable to ensure that management of nonhazardous solid waste is performed in a manner that is protective of human health and the environment. The Final Project Agreement and the site-specific rule do not in any way affect the provisions or applicability of any other existing or future regulations.

DATES: The period for submission of comments ends on December 8, 2003.

ADDRESSEES: All comments on the modification to the Final Project Agreement should be sent to: Sherri Walker, U.S. EPA, Ariel Rios Building, Mail Code 1807, 1200 Pennsylvania Avenue, NW., Washington, DC 20460. Comments may also be received via electronic mail sent to: walker.sherri@epa.gov.

FOR FURTHER INFORMATION CONTACT: To obtain a copy of the Project Fact Sheet or the Final Project Agreement, contact: Sherri Walker, U.S. Environmental Protection Agency, Mail Code 1807, 1200 Pennsylvania Avenue, NW., Washington, DC 20460. The FPA and related documents are also available via the Internet at the following location: http://www.epa.gov/projectxl/buncombe/index.htm. In addition, the original FPA and modified FPA are available at the Buncombe County General Services Department, 30 Valley Street, Asheville, NC. Questions to EPA regarding the documents can be directed to Sherri Walker at (202) 566-2186. To be included on the Buncombe County Project XL mailing list about future public meetings, XL progress reports and other mailings from Buncombe County on the XL project, contact Bob Hunter, Director, Buncombe County General Services Department, (828) 250-5466. For information on all other aspects of the XL Program, contact Donna Perla at the following address: Office of Policy and Environmental Innovation, U.S. EPA, Mail Code 1807, 1200 Pennsylvania Avenue, NW., Washington, DC 20460. Additional information on Project XL, including documents referenced in this notice, other EPA policy documents related to Project XL, regional XL contacts, application information, and descriptions of existing XL projects and proposals, is available via the Internet at http://www.epa.gov/projectxl.

Dated: October 31, 2003.
Donna Perla,
Acting Director, Office of Environmental Policy Innovation.

[FR Doc. 03-27952 Filed 11-5-03; 8:45 am]

BILLING CODE 6560-50-P